DEPARTMENT OF TRANSPORTATION

Federal Aviation Administration

Public Meeting With Interested Persons To Discuss the Proposed AC 20-42D, Hand Fire Extinguishers for Use in Aircraft

ACTION: Notice of public meeting.

SUMMARY: The Federal Aviation Administration (FAA) will hold an informational meeting to discuss the content and comments received regarding proposed advisory circular (AC) 20-42D, Hand Fire Extinguishers for use in Aircraft.

Background: Beginning in 2006, the FAA asked the International Aircraft Systems Fire Protection Working Group (IASFPWG) to draft a revision to the current AC 20-42C, issued on March 1984, by incorporating updated guidance for the fire-fighting effectiveness, selection, location, mounting and safe-use of hand fire extinguishers in aircraft. The proposed AC also identifies three FAA approved replacement agents for Halon 1211 and establishes an FAA approved minimum performance standard (MPS) for halon replacement agents which includes a hidden fire test and a seat fire/toxicity test. We also recommend that users of halon extinguishers transition to using these new halocarbon clean replacement agents in hand-held fire extinguishers. The AC also explains how to gain certification for halocarbon clean agent extinguishers intended to replace Halon 1211 hand-held extinguishers.

Meeting Dates and Locations: The meeting is scheduled for the afternoon of May 19 and the morning of May 20, 2010 in London, England, and is open to all interested persons.

If you plan to attend the meeting, please notify us via the following e-mail address: April.CTR.horner@faa.gov before March 31, 2010. Specific information pertaining to the meeting locations and times will be forwarded to those who respond to the above e-mail address.

DATES: The meeting will be held on May 19-20, 2010, in London, England.

ADDRESSES: The address for the specific meeting will be provided at a later date to those individuals planning to attend.

FOR FURTHER INFORMATION CONTACT: John Petrakis, Senior Aerospace Engineer, Federal Aviation Administration, Aircraft Certification Service, Aircraft Engineering Division, Technical Programs and Continued Airworthiness Branch, AIR-120, 950 L'Enfant Plaza, 5th Floor, SW., Washington, DC 20024. Telephone (202) 385-6341, FAX (202) 385-6475, or e-mail at: john.petrakis@faa.gov.

Issued in Washington, DC on March 10, 2010.
Susan J.M. Cabler,
Assistant Manager, Aircraft Engineering Division, Aircraft Certification Service.

[FR Doc. 2010-6145 Filed 3-19-10; 8:45 am]

BILLING CODE 4910-13-P